SMALL BUSINESS ADMINISTRATION

Senior Executive Service and Senior Level: Performance Review Board Members

AGENCY: U.S. Small Business Administration.

ACTION: Notice of Appointees to the Performance Review Board.

SUMMARY: Federal Law requires each agency to publish notification of the appointment of individuals who will serve as members of that agency's Performance Review Board (PRB). The following individuals have been designated to serve on the PRB for the U.S. Small Business Administration.

SUPPLEMENTARY INFORMATION:

Members

1. John Miller (Chair), Deputy Associate Administrator, Office of Capital Access

2. Bruce Purdy, Jr, Associate Administrator for Small Business Development Centers, Office of Entrepreneurial Development

3. George Holman, Associate Administrator, Office of Congressional and Legislative Affairs

4. John Klein, Associate General Counsel for Procurement Law, Office of General Counsel

5. Kimberly McLeod, Assistant Administrator, Office of Hearings and Appeals

6. Melissa Atwood, Director of Financial Operations Management, Office of Performance, Planning, and the Chief Financial Officer

7. Victor Parker, Deputy Associate Administrator, Office of Field Operations

Authority: 5 U.S.C. 4314(c)(4).

Isabella Casillas Guzman,
Administrator.

[FR Doc. 2024-26392 Filed 11-13-24; 8:45 am]

BILLING CODE 8026-09-P